DEPARTMENT OF AGRICULTURE

Forest Service

Eleven Point Resource Advisory Committee

AGENCY: Forest Service, Agriculture (USDA).

ACTION: Notice of meeting.

SUMMARY: The Eleven Point Resource Advisory Committee (RAC) will hold a virtual meeting by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act. RAC information and virtual meeting information can be found at the following website: https://www.fs.usda.gov/main/mtnf/workingtogether/advisorycommittees.

DATES: The virtual meeting will be held on October 23, 2021 at 10:00 a.m.-3:00 p.m., Central Daylight Time.

All RAC meetings are subject to cancellation. For status of the meeting prior to attendance, please contact the person listed under FOR FURTHER INFORMATION CONTACT.

ADDRESSES: The meeting will be held virtually via Microsoft Teams video/phone conference. Members of the public may click here to join the meeting via video conference or call in (audio only) 314-530-5560, Phone Conference ID: 968 037 567#.

Written comments may be submitted as described under SUPPLEMENTARY INFORMATION. All comments, including names and addresses when provided, are placed in the record and are available for public inspection and copying. The public may inspect comments received upon request.

FOR FURTHER INFORMATION CONTACT: Sherri Schwenke, Designated Federal Officer (DFO), by phone at 573-341-7413 or email at sherri.schwenke@usda.gov or Theresa Davidson, RAC Coordinator, at 573-341-7499 or email at theresa.davidson@usda.gov.

Individuals who use telecommunication devices for the deaf/hard-of-hearing (TDD) may call the Federal Relay Service (FRS) at 1-800-877-8339, 24 hours a day, every day of the year, including holidays.

SUPPLEMENTARY INFORMATION: The purpose of the meeting is to:

1. Hear from Title II project proponents and discuss project proposals;

2. Make funding reccomendations on Title II projects;

3. Approve meeting minutes; and

4. Schedule the next meeting.

The meeting is open to the public. The agenda will include time for people to make oral statements of three minutes or less. Individuals wishing to make an oral statement should make a request in writing by October 10, 2021, to be scheduled on the agenda. Anyone who would like to bring related matters to the attention of the committee may file written statements with the committee staff before or after the meeting. Written comments and requests for time for oral comments must be sent to Theresa Davidson, Mark Twain National Forest, 401 Fairgrounds Road, Rolla, Missouri 65401 or by email to theresa.davidson@usda.gov.

Meeting Accommodations: Please make requests in advance for sign language interpreter services, assistive listening devices, or other reasonable accommodation. For access to proceedings, please contact the person listed in the section titled FOR FURTHER INFORMATION CONTACT. All reasonable accommodation requests are managed on a case-by-case basis.

Dated: October 5, 2021.
Cikena Reid,
USDA Committee Management Officer.

[FR Doc. 2021-22092 Filed 10-8-21; 8:45 am]

BILLING CODE 3411-15-P